DEPARTMENT OF THE TREASURY

Bureau of the Fiscal Service

Proposed Collection of Information: Accounts Receivable Forms for Debt Repayment

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning the Accounts Receivable Forms for Debt Repayment.

DATES: Written comments should be received on or before August 9, 2022 to be assured of consideration.

ADDRESSES: Direct all written comments and requests for additional information to Bureau of the Fiscal Service, Bruce A. Sharp, Room #4006-A, P.O. Box 1328, Parkersburg, WV 26106-1328, or bruce.sharp@fiscal.treasury.gov.

SUPPLEMENTARY INFORMATION:

Title: Accounts Receivable Forms for Debt Repayment.

OMB Number: 1530-NEW.

Form Number(s): FS Form 000122: Request for Recurring Electronic Payments; FS Form 000123: Financial Statement of Debtor.

Abstract: The principal purpose for gathering this information is to evaluate a debtor's ability to pay their debt and to obtain the debtor's ACH payment information so recurring electronic payments can be set up to pay their debt.

Current Actions: Fiscal Service will insert the new forms into the customer relationship management system, so it can be added to any of the Accounts Receivable Section letters and mailed by Federal Reserve Bank, Minneapolis. The forms are necessary to evaluate the debtor's ability to pay their debt and obtain the debtor's ACH payment information so recurring electronic payments can be set up to pay their debt.

Type of Review: New.

Affected Public: Individuals.

Estimated Number of Respondents: 60 Total (FS Form 000122: 20 responses; FS Form 000123: 40 responses).

Estimated Time per Respondent: FS Form 000122: 15 minutes; FS Form 000123: 45 minutes).

Estimated Total Annual Burden Hours: 35 hours.

Request for Comments: Comments submitted in response to this notice will be summarized and/or included in the request for OMB approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Dated: May 19, 2022.
Bruce A. Sharp,
Bureau PRA Clearance Officer.

[FR Doc. 2022-12571 Filed 6-9-22; 8:45 am]

BILLING CODE 4810-AS-P